DEPARTMENT OF ENERGY

Federal Energy Regulatory Commission

[Docket No. PL18-1-000]

Certification of New Interstate Natural Gas Facilities

AGENCY: Federal Energy Regulatory Commission, Energy.

ACTION: Order extending time for comments.

SUMMARY: In this order, the Federal Energy Regulatory Commission (Commission) extends the comment due date for the Notice of Inquiry (NOI) published in the Federal Register on Wednesday, April 25, 2018. The NOI is seeking information and stakeholder perspectives to help the Commission explore whether, and if so how, it should revise its approach under its currently effective policy statement on the certification of new natural gas transportation facilities to determine whether a proposed natural gas project is or will be required by the present or future public convenience and necessity, as that standard is established in section 7 of the Natural Gas Act.

DATES: Comments are extended to July 25, 2018.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE, Washington, DC 20426.

Instructions: For detailed instructions on submitting comments and additional information on the rulemaking process, see the Comment Procedures section of the Notice of Inquiry (83 FR 18020, 18032 (Apr. 25, 2018)).

FOR FURTHER INFORMATION CONTACT:

Thomas Chandler (Legal Information), Office of the General Counsel, Federal Energy Regulatory Commission, 888 First Street NE, Washington, DC 20426, 202-502-6699

Maggie Suter (Technical Information), Office of Energy Projects, Federal Energy Regulatory Commission, 888 First Street NE, Washington, DC 20426, 202-502-6463

Caroline Wozniak (Technical Information), Office of Energy Market Regulation, Federal Energy Regulatory Commission, 888 First Street NE, Washington, DC 20426, 202-502-8931

Brian White (Technical Information), Office of Energy Market Regulation. Federal Energy Regulatory Commission, 888 First Street NE, Washington, DC 20426, 202-502-8332

SUPPLEMENTARY INFORMATION:

Order Extending Time for Comments

1. On April 19, 2018, the Commission issued a Notice of Inquiry (NOI) seeking information and stakeholder perspectives to help the Commission explore whether, and if so how, it should revise its approach under its currently effective policy statement on the certification of new natural gas transportation facilities (Policy Statement) to determine whether a proposed natural gas project is or will be required by the present or future public convenience and necessity, as that standard is established in section 7 of the Natural Gas Act.¹

¹ Certification of New Interstate Natural Gas Facilities, Notice of Inquiry (NOI), 163 FERC ¶ 61,042 (April 19, 2018).

2. In the NOI, the Commission sought input on whether, and if so how, the Commission should adjust: (1) Its methodology for determining whether there is a need for a proposed project, including the Commission's consideration of precedent agreements and contracts for service as evidence of such need; (2) its consideration of the potential exercise of eminent domain and of landowner interests related to a proposed project; and (3) its evaluation of the environmental impact of a proposed project. The Commission also sought input on whether there are specific changes the Commission could consider implementing to improve the efficiency and effectiveness of its certificate processes including pre-filing, post-filing, and post-order issuance. The Commission granted 60 days from the date of the publication of the NOI in the Federal Register to file comments with the Commission. The NOI was published in the Federal Register on April 25, 2018 with comments due June 25, 2018.

3. As we stated in the NOI, 19 years have passed since the Commission issued the Policy Statement. Since that time, we have seen significant changes in the energy markets, as well as in the production, use and consumption of natural gas. In the NOI, the Commission asked a series of questions to elicit information to develop a good record on which to decide any future action in this matter, and many of those questions identify complex issues. The Commission believes our work on this matter will benefit from a robust record and as much relevant information and thoughtful input as possible. Indeed, it is important that we base any next steps on the best available information, and we encourage input from stakeholders across the energy spectrum. Given the complexity of the issues, and our desire to ensure the best possible record, the Commission has decided to extend the time for interested entities to submit their comments in this matter by 30 days—to July 25, 2018.²

² As the Commission indicated in the NOI, the Commission will decide any next steps with regard to this review of the Policy Statement after the Commission has reviewed the comments filed in response to the NOI. NOI P 4.

The Commission Orders

The time for interested entities to submit comments in this proceeding is hereby extended 30 days, as discussed in the body of this order.

By the Commission.
Dated: May 23, 2018.
Kimberly D. Bose,
Secretary.

[FR Doc. 2018-11527 Filed 5-29-18; 8:45 am]

BILLING CODE 6717-01-P